DEPARTMENT OF ENERGY

Federal Energy Regulatory Commission

[Docket No. RP01-577-000]

Tennessee Gas Pipeline Company; Notice of Tariff Filing and Annual Charge Adjustment

September 7, 2001.

Take notice that on August 31, 2001, Tennessee Gas Pipeline Company (Tennessee) tendered for filing as part of its FERC Gas Tariff, Fifth Revised Volume No. 1, the following tariff sheets, with an effective date of October 1, 2001:

Twenty-Fourth Revised Sheet No. 20

Fourteenth Revised Sheet No. 21

Twenty-Fifth Revised Sheet No. 21A

Thirty-First Revised Sheet No. 22

Twenty-Fifth Revised Sheet No. 22A

Eleventh Revised Sheet No. 23A

Ninth Revised Sheet No. 23C

Fourth Revised Sheet No. 23E

Eighteenth Revised Sheet No. 26

Seventeenth Revised Sheet No. 26A

Twenty-Seventh Revised Sheet No. 26B

Tenth Revised Sheet No. 27

Fourth Revised Sheet No. 29A

Tennessee states that the purpose of the filing is to reflect a decrease in the ACA rate adjustment to Tennessee's commodity rates for the period October 1, 2001 through September 30, 2002. The tariff sheets reflect a decrease of $.0001 per Dth in the ACA adjustment surcharge, resulting in a new ACA rate of $.0021.

Any person desiring to be heard or to protest said filing should file a motion to intervene or a protest with the Federal Energy Regulatory Commission, 888 First Street, NE., Washington, DC 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23129 Filed 9-14-01; 8:45 am]

BILLING CODE 6717-01-P